NUCLEAR REGULATORY COMMISSION

Revised Meeting Notice; Reactor Safeguard Advisory Committee

In accordance with the purposes of Sections 29 and 182b. of the Atomic Energy Act (42 U.S.C. 2039, 2232b), the Advisory Committee on Reactor Safeguards will hold a meeting on August 29-September 1, 2000, in Conference Room T-2B3, 11545 Rockville Pike, Rockville, Maryland. The date of this meeting was previously published in the Federal Register on Thursday, October 14, 1999 (64 FR 55787).

Tuesday, August 29, 2000

8:30 A.M.-8:35 A.M.: Opening Remarks by the ACRS Chairman (Open)—The ACRS Chairman will make opening remarks regarding the conduct of the meeting.

8:35 A.M.-10:00 A.M.: Proposed Risk-Informed Revisions to 10 CFR Part 50 (Open)—The Committee will hear presentations by and hold discussions with representatives of the NRC staff and the Nuclear Energy Institute (NEI) regarding proposed NRC framework document for risk-informing the technical requirements of 10 CFR Part 50, proposed revisions to 10 CFR 50.44 concerning combustible gas control systems, and advance notice of proposed rulemaking (10 CFR 50.69 and Appendix T).

10:15 A.M.-11:15 A.M.: Causes and Significance of Design Basis Issues (Open)—The Committee will hear presentations by and hold discussions with representatives of the NRC staff regarding a study of design basis issues and trends.

11:15 A.M.-12:00 Noon: Proposed Final Regulatory Guide (DG-1093) Endorsing NEI 97-04 Document on Design Bases (Open)—The Committee will hear presentations by and hold discussions with representatives of the NRC staff regarding the proposed final version of the Regulatory Guide.

1:00 P.M.—1:45 P.M.: AP1000 Standard Plant Design (Open)—The Committee will hear presentations by and hold discussions with representatives of the NRC staff and the Westinghouse Electric Company regarding issues identified during AP1000 pre-application review (Phase 1).

1:45 P.M.—3:15 P.M.: Break and Preparation of Draft ACRS Reports (Open)—Cognizant ACRS members will prepare draft reports, as needed, for consideration by the full Committee.

3:15 P.M.—7:00 P.M.: Discussion of Proposed ACRS Reports (Open)—The Committee will discuss proposed ACRS reports on matters considered during this meeting. In addition, the Committee will discuss a proposed ACRS report on Assessment of the Quality of PRAs.

Wednesday, August 30, 2000

8:30 A.M.—8:35 A.M.: Opening Remarks by the ACRS Chairman (Open)—The ACRS Chairman will make opening remarks regarding the conduct of the meeting.

8:35 A.M.—9:30 A.M.: Performance-Based Regulatory Initiatives (Open)—The Committee will hear presentations by and hold discussions with representatives of the NRC staff regarding a Commission paper associated with performance-based regulatory initiatives.

9:30 A.M.-10:15 A.M.: License Renewal Guidance Documents (Open)—The Committee will hear presentations by and hold discussions with representatives of the NRC staff regarding the contents of the proposed Standard Review Plan, Generic Aging Lessons Learned Report, and a Regulatory Guide and associated NEI guidance documents.

10:30 A.M.—12:00 Noon: Operating Events at Indian Point Nuclear Power Plant Unit 2 (Open)—The Committee will hear presentations by and hold discussions with representatives of the NRC staff and the licensee regarding the events, noted below, that occurred at the Indian Point Unit 2 Nuclear Power Plant and the associated staff findings, conclusions, and recommendations resulting from the evaluations of these events: (1) February 15, 2000 steam generator tube rupture event and (2) August 31, 1999 event involving reactor trip and loss of all off-site power.

1:00 P.M.-1:30 P.M.: Siemens SRELAP-5 Best-Estimate Small-Break LOCA Code (Open/Closed)—The Committee will hear presentations by and hold discussions with representatives of the NRC staff and Siemens Corporation regarding the Siemens SRELAP-5 best-estimate code for application to analysis of transients and small-break loss of coolant accident (LOCA). [NOTE: A portion of this session may be closed to discuss Siemens Corporation's proprietary information pursuant to 5 U.S.C. 552b(c)(4)].

1:30 P.M.-2:30 P.M.: Break and Preparation of Draft ACRS Reports (Open)—Cognizant ACRS members will prepare draft reports, as needed, for consideration by the full Committee.

2:30 P.M.-7:00 P.M.: Discussion of Proposed ACRS Reports (Open)—The Committee will discuss proposed ACRS reports.

Thursday, August 31, 2000

8:30 A.M.-8:35 A.M.: Opening Remarks by the ACRS Chairman (Open)—The ACRS Chairman will make opening remarks regarding the conduct of the meeting.

8:35 A.M.-8:45 A.M.: Reconciliation of ACRS Comments and Recommendations (Open)—The Committee will discuss the responses from the NRC Executive Director for Operations (EDO) to comments and recommendations included in recent ACRS reports and letters. The EDO responses are expected to be made available to the Committee prior to the meeting.

8:45 A.M.-9:45 A.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

9:45 A.M.-10:45 A.M.: Annual Report to the Commission on the NRC Safety Research Program (Open)—The Committee will discuss the format and content of the annual ACRS report to the Commission on the NRC Safety Research Program.

11:00 A.M.-12:00 Noon: Miscellaneous (Open)—The Committee will discuss matters related to the conduct of Committee activities and matters and specific issues that were not completed during previous meetings, as time and availability of information permit.

1:00 P.M.-4:00 P.M.: Meeting with the NRC Commissioners on October 6, 2000 (Open)—The Committee will discuss and prepare topics for meeting with the Commissioners scheduled for October 6, 2000.

4:00 P.M.-6:00 P.M.: Discussion of Proposed ACRS Reports (Open)—The Committee will continue its discussion of proposed ACRS reports.

Friday, September 1, 2000

8:30 A.M.-8:35 A.M.: Opening Remarks by the ACRS Chairman (Open)—The ACRS Chairman will make opening remarks regarding the conduct of the meeting.

8:35 A.M.-1:00 P.M.: Discussion of Proposed ACRS Reports (Open)—The Committee will continue its discussion of proposed ACRS reports.

Procedures for the conduct of and participation in ACRS meetings were published in the Federal Register on September 28, 1999 (64 FR 52353). In accordance with these procedures, oral or written views may be presented by members of the public, including representatives of the nuclear industry. Electronic recordings will be permitted only during the open portions of the meeting and questions may be asked only by members of the Committee, its consultants, and staff. Persons desiring to make oral statements should notify Mr. Howard J. Larson, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. Howard J. Larson prior to the meeting. In view of the possibility that the schedule for ACRS meetings may be adjusted by the Chairman as necessary to facilitate the conduct of the meeting, persons planning to attend should check with Mr. Howard J. Larson if such rescheduling would result in major inconvenience.

Further information regarding topics to be discussed, whether the meeting has been canceled or rescheduled, the Chairman's ruling on requests for the opportunity to present oral statements, and the time allotted therefor can be obtained by contacting Mr. Howard J. Larson (telephone 301/415-6805), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: August 14, 2000.
Andrew L. Bates,
Advisory Committee Management Officer.

[FR Doc. 00-21061 Filed 8-17-00; 8:45 am]

BILLING CODE 7590-01-P